DEPARTMENT OF JUSTICE

Antitrust Division

Notice Pursuant to the National Cooperative Research and Production Act of 1993—National Council of State Boards of Nursing

Notice is hereby given that, on December 26, 2013, pursuant to Section 6(a) of the National Cooperative Research and Production Act of 1993, 15 U.S.C. 4301 et seq. (“the Act”), National Council of State Boards of Nursing (“NCSBN”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is National Council of State Boards of Nursing, Chicago, IL. The nature and scope of NCSBN's standards development activities are nurse competency research and assessment.

Patricia A. Brink,
Director of Civil Enforcement, Antitrust Division.

[FR Doc. 2014-01589 Filed 1-27-14; 8:45 am]

BILLING CODE P